DEPARTMENT OF TRANSPORTATION

Federal Aviation Administration

14 CFR Part 39

[Docket No. FAA-2009-0165; Directorate Identifier 2008-CE-055-AD]

RIN 2120-AA64

Airworthiness Directives; Hawker Beechcraft Corporation (Type Certificate Previously Held by Raytheon Aircraft Company) Models 1900, 1900C, and 1900D Airplanes

AGENCY: Federal Aviation Administration (FAA), Department of Transportation (DOT).

ACTION: Notice of proposed rulemaking (NPRM).

SUMMARY: We propose to supersede Airworthiness Directive (AD) 2006-24-11, which applies to certain Hawker Beechcraft Corporation (Hawker) (Type Certificate previously held by Raytheon Aircraft Company) Models 1900, 1900C, and 1900D airplanes. AD 2006-24-11 currently requires you to repetitively inspect the forward, vertical, and aft flanges of both the left and right wing rear spar lower caps for cracks, repair any cracks found, and report the inspection results to the manufacturer. Since we issued AD 2006-24-11, the manufacturer has developed a modification kit to install on the wing rear spar lower caps that would terminate the 200-hour repetitive inspection required in AD 2006-24-11. Consequently, this proposed AD would require installing the new modification kits on the wing rear spar lower caps and would terminate the repetitive inspections required in AD 2006-24-11 when the kits are installed. We are proposing this AD to prevent fatigue cracks in the wing rear spar lower caps, which could result in fatigue failure of the wing rear spar lower caps. A rear spar failure could result in complete wing failure and the wing separating from the airplane.

DATES: We must receive comments on this proposed AD by April 28, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Hawker Beechcraft Corporation, Attn: Airline Technical Support, P.O. Box 85, Wichita, Kansas 67201; telephone: (800) 429-5372; fax: (316) 676-8745; Internet: http://www.hawkerbeechcraft.com.

FOR FURTHER INFORMATION CONTACT: Steve Potter, Aerospace Engineer, FAA, Wichita Aircraft Certification Office (ACO), 1801 Airport Road, Room 100, Wichita, Kansas 67209, phone: (316) 946-4124, fax: (316) 946-4107.

SUPPLEMENTARY INFORMATION:

Comments Invited

We invite you to send any written relevant data, views, or arguments regarding this proposed AD. Send your comments to an address listed under the ADDRESSES section. Include the docket number, “FAA-2009-0165; Directorate Identifier 2008-CE-055-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We issued Emergency AD 2006-18-51, Amendment 39-14757 on August 31, 2006 (71 FR 52983, September 8, 2006), due to significant cracks found in the wing rear spar lower caps of Hawker Beechcraft Model 1900D airplanes. AD 2006-18-51 applies to certain Hawker Beechcraft Models 1900, 1900C, and 1900D airplanes and currently requires a one-time visual inspection of both the left and right wing rear spar lower caps for cracking and other damage such as loose or missing fasteners; repairing any cracks or damage found; and reporting any cracks or damage found to the FAA and the manufacturer.

After complying with AD 2006-18-51, additional fatigue cracks found in the affected area of the wing rear spar lower caps on certain Hawker Beechcraft Models 1900, 1900C, and 1900D airplanes caused us to issue AD 2006-24-11, Amendment 39-14840 (71 FR 70297, December 4, 2006). AD 2006-24-11 does not supersede or revise Emergency AD 2006-18-51 because both ADs are necessary to address the unsafe condition. AD 2006-24-11 currently requires the following on certain Hawker Beechcraft Models 1900, 1900C, and 1900D airplanes:

• Repetitively inspecting the forward, vertical, and aft flanges of both the left and right wing rear spar lower caps for cracks;

• Repairing any cracks found; and

• Reporting the inspection results to manufacturer.

Since we issued AD 2006-24-11, the manufacturer has developed a modification kit to install on the wing rear spar lower caps that would terminate the 200-hour repetitive inspection required in AD 2006-24-11 when installed. The FAA's aging commuter aircraft policy briefly states that, when a modification exists that could eliminate or reduce the number of required critical inspections, the modification should be incorporated. This policy is based on the FAA's determination that reliance on critical repetitive inspections on airplanes utilized in commuter service carries an unnecessary safety risk when a design change exists that could eliminate or, in certain instances, reduce the number of those critical inspections. In determining what inspections are critical, the FAA considers (1) The safety consequences of the airplane if the known problem is not detected by the inspection; (2) the reliability of the inspection such as the probability of not detecting the known problem; (3) whether the inspection area is difficult to access; and (4) the possibility of damage to an adjacent structure as a result of the problem.

The alternative to modifying the wing rear spar lower caps with a modification kit that improves the fatigue life would be to repetitively inspect this area for the life of the airplane.

This condition, if not corrected, could result in fatigue failure of the wing rear spar lower caps. A rear spar failure could result in complete wing failure and the wing separating from the airplane.

Relevant Service Information

We have reviewed Hawker Beechcraft Mandatory Corporation Service Bulletin SB 57-3816, issued January 2008.

The service information describes procedures for installing wing rear spar lower cap modification kits.

FAA's Determination and Requirements of the Proposed AD

We are proposing this AD because we evaluated all information and determined the unsafe condition described previously is likely to exist or develop on other products of the same type design. This proposed AD would supersede AD 2006-24-11 with a new AD that would require you to install modification kits on the wing rear spar lower caps. This proposed AD would also retain the repetitive inspections currently required in AD 2006-24-11 until the modification kits are installed. This proposed AD would require you to use the service information described previously to perform these actions.

Costs of Compliance

We estimate that this proposed AD would affect 243 airplanes in the U.S. registry.

We estimate the following costs to do the proposed inspections:

Labor cost | Parts cost | Total cost per airplane | Total cost on U.S. operators
10 work-hours × $80 per hour = $800 | $20 | $820 | $199,260

We estimate the following costs to do the proposed modification:

Labor cost | Parts cost | Total cost per airplane | Total cost on U.S. operators
250 work-hours × $80 per hour = $20,000 | $2,200 | $22,200 | $5,394,600

We have determined that the average life to date of the affected airplanes is 16 years and the average usage rate annually is 1,571 hours time-in-service. The cost analysis shows that, based on the average age and usage, AD 2006-24-11 requires approximately 7.9 inspections per year with an approximate annual cost of $6,500.

Based on the cost analysis, we have determined that the proposed modification would start showing a cost savings over the repetitive inspection currently required in AD 2006-24-11 after 5 years. This determination is made based on the assumption that the life-span of the airplanes affected by this proposed AD is between 25 to 40 years.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Determination

The Regulatory Flexibility Act of 1980 (Pub. L. 96-354) (RFA) establishes as a principle of regulatory issuance that agencies shall endeavor, consistent with the objective of the rule and of applicable statutes, to fit regulatory and informational requirements to the scale of the businesses, organizations, and governmental jurisdictions subject to regulation.

To achieve that principle, the RFA requires agencies to solicit and consider flexible regulatory proposals and to explain the rationale for their actions. The RFA covers a wide-range of small entities, including small businesses, not-for-profit organizations, and small governmental jurisdictions.

Agencies must perform a review to determine whether a proposed or final rule will have a significant economic impact on a substantial number of small entities. If the agency determines that it will, the agency must prepare a regulatory flexibility analysis as described in the RFA.

However, if an agency determines that a proposed or final rule is not expected to have a significant economic impact on a substantial number of small entities, section 605(b) of the RFA provides that the head of the agency may so certify and a regulatory flexibility analysis is not required. The FAA did make such a determination for this proposed AD. The basis for this determination is now discussed.

This proposed AD would supersede existing AD 2006-24-11. The cost analysis for the proposed AD shows that the proposed modification will have a cost savings from the accumulative repetitive inspection cost now required in AD 2006-24-11, reflecting cost savings for 241 of the 243 affected airplanes. For the two firms the analysis did not show a cost savings, we have identified one as a subsidiary of General Electric Capital Corporation and the other as the subsidiary of a firm that is probably large. General Electric Capital Corporation is not a small entity. We were unable to determine the size classification of the other firm. Even if the corporate parent of the unidentified firm is a small firm, this proposed rule would impact at most one firm, and one firm is not a substantial number.

Therefore, the Acting FAA Administrator certifies that this rule will not impose a significant economic impact on a substantial number of small entities.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2006-24-11, Amendment 39-14840 (71 FR 70297, December 4, 2006), and adding the following new AD:

Hawker Beechcraft Corporation (Type Certificate previously held by Raytheon Aircraft Company): Docket No. FAA-2009-0165; Directorate Identifier 2008-CE-055-AD.

Comments Due Date

(a) We must receive comments on this airworthiness directive (AD) action by April 28, 2009.

Affected ADs

(b) This AD supersedes AD 2006-24-11, Amendment 39-14840. AD 2006-18-51 relates to the subject of this AD.

Applicability

(c) This AD applies to the following airplane models and serial numbers that are certificated in any category:

Group 1 model airplanes | Serial Nos.
(1) 1900 | UA-3.
(2) 1900C (C-12J) | UB-1 through UB-74.
Group 2 model airplanes | Serial Nos.
(1) 1900C (C-12J) | UC-1 through UC-174, and UD-1 through UD-6.
(2) 1900D | UE-1 through UE-439.

Unsafe Condition

(d) This AD results from the manufacturer developing a modification kit to install on the wing rear spar lower caps that would terminate the 200-hour repetitive inspection required in AD 2006-24-11. We are issuing this AD to prevent fatigue cracks in the wing rear spar lower caps, which could result in fatigue failure of the wing rear spar lower caps. A rear spar failure could result in complete wing failure and the wing separating from the airplane.

Compliance

(e) To address this problem, you must do the following, unless already done:

Actions | Compliance | Procedures
(1) For Group 1 and Group 2 airplanes: Repetitively inspect both the left and right wing rear spar lower caps for cracks and other damage, such as loose or missing fasteners | Repetitively inspect at intervals not to exceed 200 hours time-in-service (TIS) after the last inspection required by AD 2006-24-11 | Follow the procedures in Raytheon Mandatory Service Bulletin 57-3815, Issued: October, 2006.
(2) For Group 1 and Group 2 airplanes: If cracks are found, repair all cracks by obtaining and incorporating an FAA-approved repair scheme from the manufacturer | Before further flight after any inspection required by paragraph (e)(1) of this AD where cracks are found | For the repair scheme, contact Hawker Beechcraft Corporation at P.O. Box 85, Wichita, Kansas 67201-0085; phone: (800) 429-5372; fax: (316) 676-8745; e-mail: tom_peay@rac.ray.com.
(3) For Group 1 and Group 2 airplanes: Report the inspection results to Hawker Beechcraft Company (formerly Raytheon Aircraft Company) using the instructions and forms in the service bulletin. Complete all sections of the required forms. Reporting requirements have been approved by the Office of Management and Budget (OMB) and assigned OMB control number 2120-0056 | Report the repetitive inspection results within 30 days after the inspection | Follow the procedures in Raytheon Mandatory Service Bulletin 57-3815, Issued: October, 2006.
(4) For Group 1 airplanes: Install Modification Kit 114-4052-1 and Modification Kit 114-4067-0001 | Upon reaching 22,000 total hours TIS or within the next 3 years after the effective date of this AD, whichever occurs later. Installing the modification kits terminates the repetitive inspections required by paragraph (e)(1) of this AD | Follow the procedures in Hawker Beechcraft Mandatory Service Bulletin 57-3816, Issued: January, 2008.
(5) For Group 2 airplanes: Install Modification Kit 118-4012-1 or 118-4012-3 and Modification Kit 118-4014-0003 | Upon reaching 22,000 total hours TIS or within the next 3 years after the effective date of this AD, whichever occurs later. Installing the modification kits terminates the repetitive inspections required by paragraph (e)(1) of this AD | Follow the procedures in Hawker Beechcraft Mandatory Service Bulletin 57-3816, Issued: January, 2008.
(6) For all affected Group 1 and Group 2 airplanes: You may install the modification kits specified in paragraphs (e)(4) and (e)(5) of this AD at any time before the required compliance times specified in paragraphs (e)(4) and (e)(5) of this AD. Installing the modification kits terminates the repetitive inspections required by paragraph (e)(1) of this AD | As of the effective date of this AD | Not applicable.

Alternative Methods of Compliance (AMOCs)

(f) The Manager, Wichita Aircraft Certification Office (ACO), FAA, has the authority to approve AMOCs for this AD, if requested using the procedures found in 14 CFR 39.19. Send information to ATTN: Steve Potter, Aerospace Engineer, ACE-118W, Wichita Aircraft Certification Office (ACO), 1801 Airport Road, Room 100, Wichita, Kansas 67209, phone: (316) 946-4124, fax: (316) 946-4107. Before using any approved AMOC on any airplane to which the AMOC applies, notify your appropriate principal inspector (PI) in the FAA Flight Standards District Office (FSDO), or lacking a PI, your local FSDO.

(g) AMOCs approved for AD 2006-24-11 are not approved for this AD.

Related Information

(h) To get copies of the service information referenced in this AD, contact Hawker Beechcraft, Attn: Airline Technical Support, P.O. Box 85, Wichita, Kansas 67201; telephone: (800) 429-5372; fax: (316) 676-8745; Internet: http://www.hawkerbeechcraft.com. To view the AD docket, go to U.S. Department of Transportation, Docket Operations, M-30, West Building Ground Floor, Room W12-140, 1200 New Jersey Avenue, SE., Washington, DC 20590, or on the Internet at http://www.regulations.gov.

Issued in Kansas City, Missouri, on February 19, 2009.
John Colomy,
Acting Manager, Small Airplane Directorate, Aircraft Certification Service.

[FR Doc. E9-4213 Filed 2-26-09; 8:45 am]

BILLING CODE 4910-13-P